DEPARTMENT OF COMMERCE

National Oceanic and Atmospheric Administration

[I.D. 091603C]

Marine Mammals; File Nos. 774-1714-00 and 782-1719-00

AGENCY: National Marine Fisheries Service (NMFS), National Oceanic and Atmospheric Administration (NOAA), Commerce.

ACTION: Receipt of applications.

SUMMARY: Notice is hereby given that the following Agencies have applied in due form for a permit to take various pinniped, cetacean and sea turtles during stock assessment activities for purposes of scientific research:

774-1714 - Southwest Fisheries Science Center, National Marine Fisheries Service, 8604 La Jolla Shores Dr., La Jolla, CA 92037 (Principal Investigator: Stephen B. Reilly, Ph. D.); and

782-1719 - National Marine Mammal Laboratory, National Marine Fisheries Service, 7600 Sand Point Way, NE, BIN C15700, Seattle, WA 98115 (Principal Investigator: Sue Moore, Ph.D.).

DATES: Written or telefaxed comments must be received on or before November 5, 2003.

ADDRESSES: The applications and related documents are available for review upon written request or by appointment in the following office(s) (see SUPPLEMENTARY INFORMATION)

FOR FURTHER INFORMATION CONTACT: Ruth Johnson, Carrie Hubard or Patrick Opay, (301)713-2289.

SUPPLEMENTARY INFORMATION: The subject permits are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226).

Southwest Fisheries Science Center (File No. 774-1714) requests a permit to take marine mammals and sea turtles during stock assessment research activities. The application consists of three projects: Project I (Pinniped Studies) is to conduct population assessments for northern elephant seals (Mirounga angustirostris), California sea lions (Zalophus californianus), Steller sea lions (Eumetopias jubatus) and harbor seals (Phoca vitulina richardsi) via aerial and ground/vessel surveys and photogrammetry to determine abundance, distribution patterns, length frequencies, breeding densities. Scat and spew will be collected from California sea lions to determine the diet of this species. This research is part of an ongoing program to assess the status of pinniped species and identify fishery-marine mammal conflicts. Each of the pinniped species requested interacts with fisheries off California. Project II (Cetacean Studies) is to determine the abundance, distribution, movement patterns, and stock structure of cetaceans in U.S. territorial and international waters. These studies are conducted through vessel surveys, aerial surveys, helicopter and small plane photogrammetry, photo-identification (from vessels and small boats), biological sample collection, and tagging and tracking of individual animals. Cetacean abundance data will be used to set limits (PBRs) of allowable human-caused mortality under the MMPA and to monitor trends in abundance through time. Genetic and other analyses of biological samples collected will be used to determine stock structure for the appropriate management of these species. Tagging and tracking activities will help address outstanding needs for data on movements and dive time correction factors for abundance estimation procedures. Project II activities also include the salvage and import/export of cetacean parts, specimens and biological samples. Project III (Sea Turtle Studies) is to determine the abundance, distribution, movement patterns, stock structure and diet of marine turtles in U.S. territorial and international waters. Project III studies will occur opportunistically to research activities conducted under Project II. Sea Turtle data opportunistically collected during cetacean surveys will be useful in determining movements and distribution of turtle species in the ETP, especially for olive ridley turtles. The research activities proposed in this application will provide information on movements and distribution from tag re-sights, genetic analyses of tissue biopsy and blood samples, and continued analyses of sea turtle distribution from sightings data. NMFS recovery plans for these species stress the need for a clarification of stock identity issues and determination of habitat needs and primary foraging areas. Project III also entails the salvage, import and export of marine turtle parts, specimens and biological samples.

In addition to import/export/re-export authorization for biological samples collected during the research activities, the Applicant requests authorization to import/export/re-export parts, salvaged specimens and biological samples or salvaged parts and specimens collected by other researchers under their own authorization.

782-1719 - National Marine Mammal Laboratory submitted a complete application on May 21, 2003 to take various cetacean species during stock assessment research activities. The application was published in the Federal Register on June 4, 2003 (68 FR 33477). The applicant has submitted a supplemental request to that application to take endangered marine mammals in the Antarctic.

Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Documents for both applications may be reviewed in the following locations:

Permits, Conservation and Education Division, Office of Protected Resources, NMFS, 1315 East-West Highway, Room 13705, Silver Spring, MD 20910; phone (301)713-2289; fax (301)713-0376; and

Assistant Regional Administrator for Protected Resources, Northwest Region, NMFS, 7600 Sand Point Way NE, BIN C15700, Bldg. 1, Seattle, WA 98115-0700; phone (206)526-6150; fax (206)526-6426;

Assistant Regional Administrator for Protected Resources, Alaska Region, NMFS, P.O. Box 21668, Juneau, AK 99802-1668; phone (907)586-7235; fax (907)586-7012;

Assistant Regional Administrator for Protected Resources, Southwest Region, NMFS, 501 West Ocean Blvd., Suite 4200, Long Beach, CA 90802-4213; phone (562)980-4020; fax (562)980-4027; and

Assistant Administrator, Pacific Islands Regional Office, NMFS, 1601 Kapiolani Blvd., Suite 1110, Honolulu, HI 96814-4700; phone (808)973-2935; fax (808)973-2941.

Dated: September 30, 2003.
Stephen L. Leathery,
Chief, Permits, Conservation and Education Division, Office of Protected Resources, National Marine Fisheries Service.

[FR Doc. 03-25271 Filed 10-3-03; 8:45 am]

BILLING CODE 3510-22-S